DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 15, 2004.

ADDRESSES: Written comments and recommendations on the proposed information collection should be sent to Department of the Army, U.S. Army Corps of Engineers, Institute for Water Resources, Corps of Engineers, Waterborne Commerce Statistics Center, P.O. Box 61280, New Orleans, LA 70161-1280, ATTN: CEWRC-NDC-C (Doug Blakemore). Consideration will be given to all comments received within 60 days of the date of publication of this notice.

FOR FURTHER INFORMATION CONTACT: To request more information on this proposed information collection or to obtain a copy of the proposal and associated collection instruments, please write to the above address, or call Department of the Army Reports Clearance Officer at (703) 325-8433.

Title, Associated Form, and OMB Number: Shipper's Export Declaration (SED) Program, ENG Form 7513, OMB Control Number 0710-0013.

Needs and Uses: The Corps uses the data from the program to satisfy its mission. The Corps is responsible for the operation and maintenance of the nation's waterway system to ensure efficient and safe passage of commercial and recreational vessels. The support and management of economically sound navigation projects are dependent upon reliable navigation data as mandated by the River and Harbor Appropriations Act of September 22, 1922 (42 Stat. 1043), as amended and codified in 33 U.S.C. 555. The data collected on this form provide baseline, essential waterborne transportation information necessary for the Corps to perform its mission.

Affected Public: Business or other for-profit.

Annual Burden Hours: 17,600.

Number of Respondents: 14,300.

Responses per Respondent: 97,300.

Average Burden per Response: 11 minutes.

Frequency: On occasion.

SUPPLEMENTARY INFORMATION: On September 28, 1998, the Office of Management and Budget (OMB) designated the U.S. Army Corps of Engineers (Corps) as the “central collection agency” for the U.S. Foreign Waterborne Transportation Statistics program effective October 1, 1998. The U.S. Bureau of Census (Census) was previously responsible for this program. As central collection agency for foreign waterborne transportation statistics, the Corps is responsible for meeting the needs of other federal agencies who require these data. The Maritime Administration, the U.S. Coast Guard, the Bureau of Transportation Statistics, the Environmental Protection Agency, and the Bureau of Economic Analysis also require these data.

Luz D. Ortiz,
Army Federal Register Liaison Officer.

[FR Doc. 04-824 Filed 1-13-04; 8:45 am]

BILLING CODE 3710-08-M